DEPARTMENT OF ENERGY

Federal Energy Regulatory Commission

[Docket No. OR13-26-000]

Notice of Complaint; Chevron Products Company v. Enterprise TE Products Pipeline Company, LLC

Take notice that on July 3, 2013, pursuant to sections 13(1), 15(1) and 16(1) of the Interstate Commerce Act (ICA), 49 USC app. 8, 13(1), 15(1), and 16(1), Rule 206 of the Rules of Practice and Procedure of the Federal Energy Regulatory Commission (Commission), 18 CFR 385.206, and Rules 343.1(a) and 343.2(c) of the Commission's Procedural Rules Applicable to Oil Pipeline Proceedings, 18 CFR 343.1(a) and 343.2(c), Chevron Products Company (Complainant) filed a formal complaint against Enterprise TE Products Pipeline Company, LLC (Respondent) challenging the lawfulness of the Respondent's FERC Tariff No. 55.28.0. Specifically, the Complainant alleges that Tariff 55.28.0, in providing that Respondent will no longer accept nominations for the transportation of distillates, violates the Settlement Agreement signed by the Respondent in Docket No. IS12-203-000 and approved by the Commission on May 31, 2013.¹

¹ Enterprise TE Products Pipeline Company LLC, 143 FERC ¶ 61,197 (2013).

The Complainant certifies that copies of the complaint were served on the persons listed as the Issuer and Compiler of the Respondent's Tariff No. 55.28.0.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on July 15, 2013.

Dated: July 5, 2013.
Kimberly D. Bose,
Secretary.

[FR Doc. 2013-16804 Filed 7-12-13; 8:45 am]

BILLING CODE 6717-01-P